DEPARTMENT OF STATE

[Public Notice 4583]

Notice of Meetings of the United States International Telecommunication Advisory Committee To Prepare for Various Telecommunication Standardization Meetings First Half of 2004

The Department of State announces various meetings of the U.S. International Telecommunication Advisory Committee (ITAC). The purpose of the Committee is to advise the Department on policy, technical and operational issues with respect to international telecommunications standardization bodies such as the International Telecommunication Union (ITU). The ITAC will meet periodically throughout the first half of 2004 to prepare for various ITU Telecommunication Standardization Study Group meetings, ITU Development meetings, ITU Radiocommunication meetings, and CITEL. Times and locations of these meetings will be announced via the e-mail reflectors (list servers) identified below. People may join these reflectors by sending a message identifying the reflector they wish to join to EnnisJG@state.gov, unless another contact point is provided below for the meeting in question.

TSAG preparations: The ITAC will meet January 21, February 19, March 25, April 29, May 20, and June 23, and possibly on June 2, to prepare for the July 12-16 meeting of the ITU-T Telecommunication Sector Advisory Group (TSAG). Location and times for these meetings will be announced on the appropriate reflector list, e.g., itac-t@EBLIST.state.gov.

ITU-T Study Group 2 preparations: The ITAC will meet April 28, 2004 in the Washington, D.C. area to prepare for the next ITU-T Study Group 2 meeting, which is to be held from May 18-28, 2004. Location and time for this ITAC meeting will be announced on the reflector list sganumberingadhoc@EBLIST.state.gov.

ITU-T Study Group 3 preparations: The ITAC will meet on January 29, February 25, March 10, April 28, and possibly on May 12. 2004, to prepare for the next ITU-T Study Group 3 meeting, which is to be held from May 31-June 4, 2004. Location and time for these ITAC meetings will be announced on the appropriate reflector list, e.g., sga@EBLIST.state.gov.

ITU-T Study Group 4 preparations: The ITAC will meet on April 1 to prepare for the next ITU-T Study Group 4 meeting, which is to be held from April 26-May 7, 2004. Location and time for this ITAC meeting will be announced on the appropriate reflector list, e.g., sga@EBLIST.state.gov.

ITU-T Study Group 9 preparations: The ITAC will meet beginning April 14, 2004 via e-mail on the appropriate reflector list, e.g., sgd@EBLIST.state.gov to prepare for the ITU-T Study Group 9 meeting, which is to be held from May 10-14, 2004. Originators must post their contributions to the reflector by April 14; comments on the documents must be posted to the same address by April 19; originators' responses must be posted by April 21, and final action will be posted by the Department of State no later than April 23. If necessary, these dates may be modified, or this meeting may be continued through a later date via e-mail or conference call, as announced on the reflector.

ITU-T Study Groups 13 and 11 preparations: The ITAC will meet on January 23, 2004 to consider delayed contributions to, and otherwise prepare for, the ITU-T Study Group 13 meeting to be held on February 3-12, 2004 and the ITU-T Study Group 11 meeting to be held on March 1-12, 2004. This ITAC meeting will begin 30 minutes after closure of the T1A1/T1S1 Plenaries at Radisson Riverwalk Hotel, 1515 Prudential Drive, Jacksonville, FL 32207. Further information may be announced on the e-mail reflector (list server) SGB@EBLIST.state.gov. People may join this reflector by sending a message to Marcie Geissinger at marciegeissinger@msn.com or 303-499-2145 saying they wish to join.

ITU-T Study Group 15 preparations: The ITAC will meet from February 11 to 17, 2004 via e-mail on the reflector list SGB@EBLIST.state.gov to consider normal (white) contributions to the ITU-T Study Group 15 meeting to be held April 19-30, 2004, Geneva. If necessary, this meeting may be continued through a later date via e-mail or conference call, as announced on the reflector. If you wish to participate in this meeting, please inform Marcie Geissinger at marciegeissinger@msn.com or 303-499-2145.

The ITAC will meet on April 1 to consider delayed contributions to the ITU-T Study Group 15 meeting. Further information regarding the place and time for this meeting will be announced on the e-mail reflector (list server) SGB@EBLIST.state.gov. People may join this reflector by sending a message to Marcie Geissinger at marciegeissinger@msn.com or 303-499-2145 saying they wish to join.

ITU-T Study Group 17 preparations: The ITAC will meet beginning February 18 via e-mail on the appropriate reflector list , e.g., sgd@EBLIST.state.gov to prepare for the ITU-T Study Group 17 meeting to be held from March 10-19. Originators must post their contributions to the reflector by February 18, 2004; comments on the documents must be posted to the same address by February 23; originators' responses must be posted February 24, and final action will be posted by the Department of State no later than February 25, 2004. If necessary, this meeting may be continued through a later date via e-mail or conference call, as announced on the reflector.

ITU-T Special Study Group preparations: The ITAC will meet beginning March 26, 2004 via e-mail on the reflector list sgd-ssg@EBLIST.state.gov to prepare for the ITU-T Special Study Group (IMT2000 and beyond) meeting to be held from April 19-22, 2004. Originators must post their documents to the reflector by March 26, 2004; comments on the documents must be posted to the same address by March 31; originators' responses must be posted by April 3, and final action will be posted by the Department of State no later than April 6, 2004. If necessary, this meeting may be continued through a later date via e-mail or conference call, as announced on the reflector.

CITEL PCC II and COMCITEL Group Preparations: The ITAC will meet on January 28 to debrief on COMCITEL (December 16-19, 2003), and on February 11 and March 3, 2004 to prepare for the next CITEL PCC I meeting (March 15-19). Location and times for these meetings will be announced on the appropriate reflector list, e.g., PCCI-CITEL@EBLIST.state.gov. PCC II will meet on January 27, February 17, March 2, and 16, 2004 to prepare for the next PCC II meeting (March 30-April 2). Location and time for these meetings will be announced on the reflector. To be added to the reflector send and e-mail to holidaycc@state.gov.

ITAC-D for ITU Telecommunication Development Advisory Group: The ITAC will meet on January 13 in preparation for the Ninth Meeting of the ITU Telecommunication Development Advisory Group (January 21-23, 2004). Further information may be obtained by calling the ITAC-D Director at 202 647-0201 or e-mailing to mcgirrdf@state.gov.

ITAC-R Study Groups: ITAC-R will meet to discuss matters related to the preparations for ITU-R Study Groups taking place in 2004 on January 29, 2004. Further information may be obtained by calling the ITAC-R Director at 202 647-0051 or e-mailing to holidaycc@state.gov.

Members of the public will be admitted to the meetings to the extent that seating is available, and may join in the discussions, subject to the instructions of the Chair. Entrance to the Department of State is controlled; people intending to attend a meeting at the Department of State should send their clearance data by fax to (202) 647-7407 or e-mail to EnnisJG@state.gov not later than 24 hours before the meeting. Please include the name of the meeting, your name, social security number, date of birth and organizational affiliation. One of the following valid photo identifications will be required for admittance: U.S. driver's license with your picture on it, U.S. passport, or U.S. Government identification. Directions to the meeting location may be obtained by requesting it by e-mail from EnnisJG@State.gov.

Dated: January 8, 2004.
Marian Gordon,
Director, Telecommunication and Information Standardization, Department of State.

[FR Doc. 04-886 Filed 1-14-04; 8:45 am]

BILLING CODE 4710-45-P